DEPARTMENT OF TRANSPORTATION

Transportation Security Administration

Intercity Bus Security Grant Program; Notice Modifying the Delivery Instructions for Receipt of Applications Under the Intercity Bus Security Grant Program

AGENCY: Transportation Security Administration, Department of Transportation.

Authority: Authority for this program is contained in the fiscal year 2002 Supplemental Appropriations Act for Further Recovery From and Response to Terrorist Attacks on the United States, Pub. L. 107-206, 116 Stat. 820.

ACTION: Notice modifying delivery address for receipt of grant applications.

SUMMARY: This notice modifies the delivery address and instructions previously established for receipt of applications under the Intercity Bus Security Grant Program (Program Announcement #02MLPA0002) in 68 FR 2634, Jan. 17, 2003.

For applications sent by the U.S. Postal Service (USPS), the applicant should mail its application to: Mary Heying or Tony Corio, Attn: Intercity Bus Security Grants, Transportation Security Administration Headquarters, Office of Maritime and Land Security, West Tower, 9th Floor North, TSA-8, 400 Seventh Street, SW., Washington, DC 20590. An application received by the Office of Maritime & Land Security after the closing date will not be considered unless it was sent by at least first-class mail no later than 5 calendar days before the closing date or was sent by first-class mail and it was determined by TSA that late receipt was due solely to mishandling after receipt at TSA. Proof of mailing consists of a legibly dated USPS postmark; a legible mail receipt with the date of mailing stamped by the USPS; or a dated shipping label, invoice, or receipt from a commercial carrier. A private metered postmark will not be considered as proof of mailing. (Note: the USPS does not always provide a dated postmark. Before relying on this method, the applicant should check with its local post office.)

For applications delivered by hand or by a next-day express delivery service, the application should be delivered to: Transportation Security Administration Headquarters, Office of Maritime and Land Security, West Tower, 9th Floor North, 701 South 12th Street, Arlington, VA 22202, Attn: Mary Heying, Workstation #926BN, 571-227-1252 or Tony Corio, Workstation #924DN, 571-227-1233. Hand delivered applications will be accepted between 8:30 a.m. and 4 p.m. (e.s.t.) daily, except Saturdays, Sundays, and Federal holidays. An application that is hand delivered will not be accepted by the Office of Maritime & Land security after 4 p.m. (e.s.t.) on the closing date.

Note that a previous notice published in 68 FR 5975, Feb. 5, 2003, modified the deadline for receipt of applications to on or before 4 p.m. e.s.t., March 19, 2003.

ADDRESSES: Program Announcement #02MLPA0002 and application forms for the Intercity Bus Security Grant Program are available through the TSA Internet at http://www.tsa.dot.gov under Business Opportunities and Industry Partners.

FOR FURTHER INFORMATION CONTACT: Ms. Mary Heying, Transportation Security Administration Headquarters, West Tower, 9th Floor North, TSA-8, 400 7th Street, SW., Washington, DC 20590, (phone: 571-227-1252, email: Mary.Heying@tsa.dot.gov), or Mr. Tony Corio (phone: 571-227-1233, email: Tony.Corio@tsa.dot.gov).

Dated: February 11, 2003.
Mark H. Johnson,
Deputy Assistant Administrator, Office of Maritime and Land Security.

[FR Doc. 03-3789 Filed 2-14-03; 8:45 am]

BILLING CODE 4110-62-M